FEDERAL MINE SAFETY AND HEALTH REVIEW COMMISSION

Sunshine Act Meetings

TIME AND DATE: 10 a.m., Thursday, February 19, 2026.

PLACE: The meeting will be held via remote means and/or in the Richard V. Backley Hearing Room, Room 511, 1331 Pennsylvania Avenue NW, Suite 504 North, Washington, DC 20004.

STATUS: Closed.

MATTERS TO BE CONSIDERED: The Commission will conduct a meeting closed to the public to consider: Secretary of Labor v. Rulon Harper Construction, Inc., (Issues include: (1) whether the Judge abused her discretion in denying the motions to approve settlement and (2) whether the Secretary has unreviewable discretion to remove an S&S designation from a contested citation without the Commission's approval under section 110(k) of the Mine Act). Commissioners will attend the meeting. Commission staff members who provide technological support and other Commission staff may also be present as necessary. This meeting is closed to the public pursuant to 5 U.S.C. 552b(c)(10) on the basis of the Commission's consideration or disposition of a “particular case of formal agency adjudication.”

CONTACT PERSON FOR MORE INFORMATION: Rory P. Smith (202) 525-8649/(202) 708-9300 for TDD Relay/1-800-877-8339 for toll free.

Authority: 5 U.S.C. 552b.

Dated: January 15, 2026.
Rory P. Smith,
Attorney-Advisor.

[FR Doc. 2026-01000 Filed 1-15-26; 4:15 pm]

BILLING CODE 6735-01-P